ENVIRONMENTAL PROTECTION AGENCY

40 CFR Part 52

[R10-OAR-2005-WA-0006; FRL-7936-2]

Approval and Promulgation of Air Quality Implementation Plans; Washington; Correcting Amendments

AGENCY: Environmental Protection Agency (EPA).

ACTION: Proposed rule.

SUMMARY: In this action, EPA is proposing minor corrections to typographical numbering errors that appeared in the notice approving the serious area plan for attainment of the annual and 24-hour PM10 standards for Wallula, Washington, published on May 2, 2005. PM10 is particulate matter with an aerodynamic diameter less than or equal to a nominal 10 micrometers.

DATES: Comments must be received on or before August 11, 2005.

ADDRESSES: Submit your comments, identified by Docket ID No. R10-OAR-2005-WA-0006, by one of the following methods:

• Federal eRulemaking Portal: http://www.regulations.gov. Follow the on-line instructions for submitting comments.

• Agency Web Site: http://www.epa.gov/edocket. EDOCKET, EPA's electronic public docket and comment system, is EPA's preferred method for receiving comments. Follow the on-line instructions for submitting comments.

• Mail: Colleen Huck, Office of Air, Waste and Toxics, AWT-107, EPA, Region 10, 1200 Sixth Ave., Seattle, Washington 98101.

• Hand Delivery: Colleen Huck, Office of Air, Waste and Toxics, AWT-107, 9th Floor, EPA, Region 10, 1200 Sixth Ave., Seattle, Washington 98101. Such deliveries are only accepted during normal hours of operation, and special arrangements should be made for deliveries of boxed information.

Please see the direct final rule which is located in the Rules section of this Federal Register for detailed instructions on how to submit comments.

FOR FURTHER INFORMATION CONTACT: Colleen Huck at telephone number: (206) 553-1770, e-mail address: Huck.Colleen@epa.gov, fax number: (206) 553-0110, or the above EPA, Region 10 address.

SUPPLEMENTARY INFORMATION: For further information, please see the direct final action, of the same title, which is located in the Rules and Regulations section of this Federal Register. EPA is publishing this action without prior proposal because EPA views this as a noncontroversial amendment and anticipates no adverse comments. A detailed rationale for the correction is set forth in the preamble to the direct final rule. If EPA receives no adverse comments, EPA will not take further action on this proposed rule.

If EPA receives adverse comments, EPA will withdraw the direct final rule and it will not take effect. EPA will address all public comments in a subsequent final rule based on this proposed rule. EPA will not institute a second comment period on this action. Any parties interested in commenting on this action should do so at this time. Please note that if we receive adverse comment on an amendment, paragraph, or section of this rule and if that provision may be severed from the remainder of the rule, EPA may adopt as final those provisions of the rule that are not the subject of an adverse comment.

Dated: June 24, 2005.
Ronald A. Kreizenbeck,
Acting Regional Administrator, Region 10.

[FR Doc. 05-13553 Filed 7-11-05; 8:45 am]

BILLING CODE 6560-50-P